DEPARTMENT OF THE INTERIOR

Fish and Wildlife Service

[FWS-R9-IA-2009-N0090; 96300-1671-0000-P5]

Receipt of Applications for Permit

AGENCY: Fish and Wildlife Service, Interior.

ACTION: Notice of receipt of applications for permit.

SUMMARY: We, the U.S. Fish and Wildlife Service, invite the public to comment on the following applications to conduct certain activities with endangered species. The Endangered Species Act requires that we invite public comment on these permit applications.

DATES: Written data, comments or requests must be received by June 10, 2009.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 212, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to Section 10(c) of the Endangered Species Act of 1973, as amended (16 U.S.C. 1531 et seq.). Written data, comments, or requests for copies of these complete applications should be submitted to the Director (address above).

Applicant: Hendrix College, Conway, AR, PRT-195341

The applicant requests a permit to import biological samples from kakapo (Strigops habroptilus) collected in the wild in New Zealand, incidental to other research activities, for the purpose of scientific research. This notification covers activities to be conducted by the applicant over a 5-year period.

Applicant: Henry Doorly Zoo, Center for Conservation and Research, Omaha, NE, PRT-210155

The applicant requests a permit to import blood, scute, and post-hatch egg shell samples from wild and captive-bred Philippine crocodiles (Crocodylus mindorensis) for the purpose of scientific research. This notification covers activities to be conducted by the applicant over a 5-year period.

Applicant: Kootenai Tribe of Idaho, Bonners Ferry, ID, PRT-011646

The applicant requests re-issuance of a permit for multiple exports of white sturgeon(Acipenser transmontanus) fertilized eggs from a spawning facility in Bonners Ferry, Idaho, to the Kootenay Trout Hatchery in Fort Steele, British Columbia, Canada, an action addressed in the white sturgeon recovery plan, for the purpose of enhancement of the survival of the species. This notification covers activities conducted by the applicant over a 5-year period.

Applicant: Bud A. Woodruff, Flagstaff, AZ, PRT-208672

The applicant requests a permit to import the sport-hunted trophy of one male bontebok (Damaliscus pygargus pygargus) culled from a captive herd maintained under the management program of the Republic of South Africa, for the purpose of enhancement of the survival of the species.

Applicant: Kenneth M. Huffaker, Nevada, IA, PRT-212705

The applicant requests a permit to import the sport-hunted trophy of one male bontebok (Damaliscus pygargus pygargus) culled from a captive herd maintained under the management program of the Republic of South Africa, for the purpose of enhancement of the survival of the species.

Applicant: Alan J. Schimelpfenig, Grafton, WI, PRT-193940

The applicant requests a permit to import the sport-hunted trophy of one male scimitar-horned oryx (Oryx dammah) culled from a captive herd in the Republic of South Africa, for the purpose of enhancement of the survival of the species.

Dated: April 24, 2009
Lisa J. Lierheimer
Senior Permit Biologist, Branch of Permits, Division of Management Authority

[FR Doc. E9-10976 Filed 5-8-09; 8:45 am]

BILLING CODE 4310-55-S